INTERNATIONAL TRADE COMMISSION

[USITC SE-09-019]

Government in the Sunshine Act Meeting Notice

AGENCY HOLDING THE MEETING: United States International Trade Commission.

TIME AND DATE: July 10, 2009 at 11 a.m.

PLACE: Room 101, 500 E Street, SW., Washington, DC 20436. Telephone: (202) 205-2000.

STATUS: Open to the public.

Matters To Be Considered

1. Agenda for future meetings: none.

2. Minutes.

3. Ratification List.

4. Inv. Nos. 701-TA-464 and 731-TA-1160 (Preliminary) (Prestressed Concrete Steel Wire Strand from China)—briefing and vote. (The Commission is currently scheduled to transmit its determinations to the Secretary of Commerce on or before July 13, 2009; Commissioners' opinions are currently scheduled to be transmitted to the Secretary of Commerce on or before July 20, 2009.)

5. Inv. Nos. 701-TA-465 and 731-TA-1161 (Preliminary) (Certain Steel Grating from China)—briefing and vote. (The Commission is currently scheduled to transmit its determinations to the Secretary of Commerce on or before July 13, 2009; Commissioners' opinions are currently scheduled to be transmitted to the Secretary of Commerce on or before July 20, 2009.)

6. Outstanding action jackets: None.

In accordance with Commission policy, subject matter listed above, not disposed of at the scheduled meeting, may be carried over to the agenda of the following meeting.

Issued: July 1, 2009.
By order of the Commission.
William R. Bishop,
Hearings and Meetings Coordinator.

[FR Doc. E9-16609 Filed 7-9-09; 4:15 pm]

BILLING CODE 7020-02-P